DEPARTMENT OF THE INTERIOR

Bureau of Land Management

[LLNM920000 19X L13100000.PP0000]

Notice of Proposed Reinstatement of Terminated Oil and Gas Leases NMNM 126064, NMNM 130871, NMNM 130872, NMNM 130873, NMNM 121491, NMNM 119270, NMNM 116002, NMNM 010192, New Mexico

AGENCY: Bureau of Land Management, Interior.

ACTION: Notice.

SUMMARY: In accordance with the Mineral Leasing Act of 1920 as amended, COG Operating LLC., Keohane, Inc., CD Ray, Marathon Oil Permian LLC., JTD Resources LLC, and Chevron USA Inc., timely filed a petition for reinstatement of competitive oil and gas leases NMNM 119270, NMNM 010192, NMNM 116002 in Eddy County, New Mexico, and NMNM 126064, NMNM 130871, NMNM 130872, NMNM 130873, NMNM 121491 in Lea County, New Mexico. The lessees paid the required rentals accruing from the date of termination. No leases were issued that affect these lands. The Bureau of Land Management proposes to reinstate these leases.

FOR FURTHER INFORMATION CONTACT: Julieann Serrano, Supervisory Land Law Examiner, Branch of Adjudication, Bureau of Land Management New Mexico State Office, 301 Dinosaur Trail, Santa Fe, New Mexico 87508, (505) 954-2149, jserrano@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The lessees agree to new lease terms for rentals and royalties of $10 per acre, or fraction thereof, per year, and 16⅔ percent, respectively. Each lessee agrees to additional or amended stipulations. Each lessee paid the $500 administration fee for the reinstatement of the lease and $159 cost for publishing this Notice.

The lessee met the requirements for reinstatement of the lease per Sec. 31(d) and (e) of the Mineral Leasing Act of 1920. The BLM is proposing to reinstate the leases, effective the date of termination subject to the:

• Original terms and conditions of the lease;

• Additional and amended stipulations;

• $500 Administrative fee for reinstatement of the lease;

• Increased rental of $10 per acre;

• Increased royalty of 16⅔ percent; and

• $159 cost of publishing this Notice.

(Authority: 43 CFR 3108.2-3)

Julieann Serrano,
Supervisory, Land Law Examiner.

[FR Doc. 2019-24117 Filed 11-4-19; 8:45 am]

BILLING CODE 4310-FB-P